DEPARTMENT OF COMMERCE

International Trade Administration

[C-533-839]

Carbazole Violet Pigment-23 From India: Final Results of Countervailing Duty Administrative Review; 2022

AGENCY: Enforcement and Compliance, International Trade Administration, Department of Commerce.

SUMMARY: The U.S. Department of Commerce (Commerce) determines that certain producers of exporters of carbazole violet pigment 23 (pigment) from India received countervailable subsidies during the period of review (POR) January 1, 2022 through December 31, 2022.

DATES: Applicable December 31, 2025.

FOR FURTHER INFORMATION CONTACT: Brian Warnes, AD/CVD Operations, Office VII, Enforcement and Compliance, International Trade Administration, U.S. Department of Commerce, 1401 Constitution Avenue NW, Washington, DC 20230; telephone: (202) 482-0028.

SUPPLEMENTARY INFORMATION:

Background

On April 14, 2025, Commerce published the Preliminary Results of this administrative review in the Federal Register and invited interested parties to comment.¹ On August 11, 2025, Commerce extended the deadline of the final results by 28 days.²

¹ See Carbazole Violet Pigment 23 from India: Preliminary Results of Countervailing Duty Administrative Review; 2022, 90 FR 15561 (April 14, 2025) (Preliminary Results), and accompanying Preliminary Decision Memorandum.

² See Memorandum, “Extension of Deadline for Final Results of Countervailing Duty Administrative Review,” dated August 11, 2025.

Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for the final results of this review is December 19, 2025.

³ See Memorandum, “Deadlines Affected by the Shutdown of the Federal Government,” dated November 14, 2025.

⁴ See Memorandum, “Tolling of all Case Deadlines,” dated November 24, 2025.

For a complete description of the events that occurred since the Preliminary Results, see the Issues and Decision Memorandum.⁵ A list of topics discussed in the Issues and Decision Memorandum is included as an appendix to this notice. The Issues and Decision Memorandum is a public document and is on file electronically via enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Memorandum, “Issues and Decision Memorandum for the Final Results in the Countervailing Duty Administrative Review of Carbazole Violet Pigment-23 from India; 2022,” dated concurrently with, and hereby adopted by, this notice (Issues and Decision Memorandum).

Scope of the Order ⁶

⁶ See Notice of Countervailing Duty Order: Carbazole Violet Pigment 23 from India, 69 FR 77995 (December 29, 2004) (Order).

The product covered by this Order is pigment. For a complete description of the scope of this Order, see the Issues and Decision Memorandum.

Methodology

Commerce conducted this administrative review in accordance with section 751(a)(1)(A) of the Tariff Act of 1930, as amended (the Act). For each of the subsidy programs found countervailable, we find that there is a subsidy, i.e., a government provided financial contribution that gives rise to a benefit to the recipient, and that the subsidy is specific.⁷ The subsidy programs under review, and the issues raised in case and rebuttal briefs submitted by the interested parties, are discussed in the Issue and Decision Memorandum.

⁷ See sections 771(5)(B) and (D) of the Act regarding financial contribution; section 771(5)(E) of the Act regarding benefit; and section 771(5A) of the Act regarding specificity.

Changes Since the Preliminary Results

Based on our review and analysis of the information received during this segment and comments received from parties, for this final determination, we made certain changes to the countervailable subsidy rate calculations for Meghmani, Gharda, and Navpad Pigments Pvt. Ltd. For a discussion of these changes, see the Issues and Decision Memorandum.

Final Results of Administrative Review

As a result of this review, Commerce determines the following net countervailable subsidy rates exist for the period January 1, 2022, through December 31, 2022:

⁸ Commerce has determined the following companies to be cross-owned with Gharda: Gujarat Insecticides Ltd.

⁹ Commerce has determined the following companies to be cross-owned with Meghmani: Meghmani LLP.

¹⁰ In the Preliminary Results, we misspelled Navpad Pigments Pvt. Ltd. We did not publish a correction notice in the Federal Register as this notice supersedes the Preliminary Results.

Company | Subsidy rate (percent ad valorem)
Gharda Chemicals, Ltd.⁸ | 3.28
Meghmani Pigments ⁹ | 5.51
Navpad Pigments Pvt. Ltd.¹⁰ | 4.40

Disclosure

Commerce intends to disclose its calculations and analysis performed in connection with these final results to interested parties within five days of its public announcement, or if there is no public announcement, within five days of the date of publication of this notice in accordance with 19 CFR 351.224(b).

Assessment Rates

Pursuant to section 751(a)(2)(C) of the Act and 19 CFR 351.212(b)(2), Commerce has determined, and CBP shall assess, countervailing duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce intends to instruct CBP to collect cash deposits of estimated countervailing duties in the amounts shown for the companies subject to this review for shipments of subject merchandise entered, or withdrawn from warehouse, for consumption on or after the date of publication of the final results of this administrative review. For all non-reviewed companies, we will instruct CBP to continue to collect cash deposits of estimated countervailing duties at the most recent company-specific or all-others rate (20.55 percent) ¹¹ applicable to the company, as appropriate. These cash deposits, when imposed, shall remain in effect until further notice.

¹¹ See Order, 69 FR at 77996.

Administrative Protective Order

This notice also serves as a final reminder to parties subject to an APO of their responsibility concerning the return or destruction of proprietary information disclosed under APO in accordance with 19 CR 351.305(a)(3). Timely written notification of the return or destruction of APO materials or conversion to judicial protective order is hereby requested. Failure to comply with the regulations and terms of an APO is a violation subject to sanction.

Notice to Interested Parties

These final results are issued and published in accordance with sections 751(a)(1) and 777(i)(1) of the Act, and 19 CFR 351.221(b)(5).

Dated: December 19, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation

V. Use of Facts Otherwise Available and Application of Adverse Inferences

VI. Analysis of Programs

VII. Discussion of the Issues

Comment 1: Whether Commerce Incorrectly Found The Merchandise Export From India Scheme to be Countervailable

Comment 2: Whether Commerce Incorrectly Held The Export Promotion Of Capital Goods Scheme To Be Countervailable

Comment 3: Whether Commerce Has Incorrectly Found The Pre-Shipment And Post-Shipment Financing Scheme To Be Countervailable

Comment 4: Whether Commerce Has Incorrectly Found The Duty Drawback Scheme To Be Countervailable

Comment 5: Whether Commerce Has Incorrectly Found The Remission Of Duties And Taxes On Export Products Scheme To Be Countervailable And Properly Calculated Its Subsidy Rate

Comment 6: Application Of AFA For Section 80-IA And Section 80JJAA Of The Income Tax Act

Comment 7: Subsidy Rate Calculated For Income Tax Deductions Under Section 10AA

Comment 8: Purchases Of Water From The Guarat Industrial Development Center For Less Than Adequate Remuneration

Comment 9: Clerical Errors

VIII. Recommendation

[FR Doc. 2025-24035 Filed 12-30-25; 8:45 am]

BILLING CODE 3510-DS-P